DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Amendment 80 Permits and Reports.

OMB Control Number: 0648-0565.

Form Number(s): None.

Type of Request: Regular (extension of a currently approved information collection).

Number of Respondents: 33.

Average Hours per Response: 2 hours each for Application for Amend 80 QS; Application for Amend 80 Cooperative and CQ Permit; Application for Amend 80 limited access fishery; Application to transfer Amend 80 QS; Application for Amendment 80 Vessel Replacement and Application for inter-cooperative transfer Amend 80 CQ; 25 hours for Amend 80 cooperative report; 4 hours for Amend 80 appeals letter; 30 minutes for Flatfish Exchange Application.

Burden Hours: 181.

Needs and Uses: This request is for extension of a currently approved information collection.

Amendment 80 to the Fishery Management Plan for Groundfish of the Bering Sea and Aleutian Islands Management Area allocates several Bering Sea and Aleutian Islands Management Area non-pollock trawl groundfish fisheries among fishing sectors, established a limited access privilege program, and facilitated the formation of harvesting cooperatives in the non-American Fisheries Act (non-AFA) trawl catcher/processor sector. The Amendment 80 Fishery Management Plan applies retention standards on an aggregate basis to all activities of a cooperative, allowing participants within the cooperative to coordinate fishing and retention practices across the cooperative to meet the retention requirements.

Affected Public: Business or other for-profit organizations; individuals or households.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 21, 2015.
Sarah Brabson,
NOAA PRA Clearance Officer.

[FR Doc. 2015-32543 Filed 12-24-15; 8:45 am]

BILLING CODE 3510-22-P